DEPARTMENT OF LABOR

Employment and Training Administration

[TA-W-83,015]

Fenner Precision, Inc., Including On-Site Leased Workers From Aerotek Buffalo, New York; Amended Certification Regarding Eligibility To Apply for Worker Adjustment Assistance

In accordance with Section 223 of the Trade Act of 1974, as amended (“Act”), 19 U.S.C. 2273, the Department of Labor issued a Certification of Eligibility to Apply for Worker Adjustment Assistance on November 5, 2013, applicable to workers of Fenner Precision, Inc., Buffalo, New York. The Department's notice of determination was published in the Federal Register on November 26, 2013 (78 FR 70581-70583).

At the request of state workforce office, the Department reviewed the certification for workers of the subject firm. The workers were engaged in activities related to the production of polyurethane CAST products.

The company reports that workers leased from Aerotek were employed on-site at the Buffalo, New York location of Fenner Precision, Inc. The Department has determined that these workers were sufficiently under the control of the subject firm to be considered leased workers.

Based on these findings, the Department is amending this certification to include workers leased from Aerotek working on-site at the Buffalo, New York location of Fenner Precision, Inc.

The amended notice applicable to TA-W-83,015 is hereby issued as follows:

All workers of Fenner Precision, Inc, including on-site leased workers from Aerotek, Buffalo, New York, who became totally or partially separated from employment on or after August 21, 2012 through November 5, 2015, and all workers in the group threatened with total or partial separation from employment on the date of certification through two years from the date of certification, are eligible to apply for adjustment assistance under Chapter 2 of Title II of the Trade Act of 1974, as amended.

Michael W. Jaffe,
Certifying Officer, Office of Trade Adjustment Assistance.

[FR Doc. 2014-27617 Filed 11-20-14; 8:45 am]

BILLING CODE 4510-FN-P